DEPARTMENT OF LABOR

Agency Information Collection Activities; Submission for OMB Review; Comment Request; Mine Accident, Injury, and Illness Report and Quarterly Mine Employment and Coal Production Report

ACTION: Notice of availability; request for comments.

SUMMARY: The Department of Labor (DOL) is submitting this Mine Safety and Health Administration (MSHA)-sponsored information collection request (ICR) to the Office of Management and Budget (OMB) for review and approval in accordance with the Paperwork Reduction Act of 1995 (PRA). Public comments on the ICR are invited.

DATES: The OMB will consider all written comments that the agency receives on or before January 22, 2024.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Michael Howell by telephone at 202-693-6782, or by email at DOL_PRA_PUBLIC@dol.gov.

SUPPLEMENTARY INFORMATION: The reporting and recordkeeping provisions in 30 CFR 50, Notification, Investigation, Reports and Records of Accidents, Injuries and Illnesses, Employment and Coal Production in Mines, are essential elements in MSHA's statutory mandate to reduce work-related injuries and illnesses among the nation's miners (30 U.S.C. 801). Part 50 applies to operators of coal, metal, and nonmetal mines. It requires operators to immediately notify MSHA of accidents, investigate accidents and restrict disturbance of accident-related areas. This part also requires operators to file reports with MSHA pertaining to accidents, occupational injuries, and occupational illnesses, as well as employment and coal production data, and requires operators to maintain copies of reports at mine offices. For additional substantive information about this ICR, see the related notice published in the Federal Register on September 21, 2023 (88 FRN 65196).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

Agency: DOL-MSHA.

Title of Collection: Mine Accident, Injury, and Illness Report and Quarterly Mine Employment and Coal Production Report.

OMB Control Number: 1219-0007.

Affected Public: Businesses or other for-profits.

Number of Respondents: 20,953.

Frequency: On occasion.

Number of Responses: 98,389.

Annual Burden Hours: 117,903 hours.

Total Estimated Annual Other Costs Burden: $3,009.

(Authority: 44 U.S.C. 3507(a)(1)(D))

Michael Howell,
Senior Paperwork Reduction Act Analyst.

[FR Doc. 2023-28222 Filed 12-21-23; 8:45 am]

BILLING CODE 4510-43-P